COMMITTEE FOR PURCHASE FROM PEOPLE WHO ARE BLIND OR SEVERELY DISABLED

Procurement List; Proposed Additions and Deletions

ACTION: Proposed Additions to and Deletions from the Procurement List.

SUMMARY: The Committee is proposing to add to the Procurement List products to be furnished by nonprofit agencies employing persons who are blind or have other severe disabilities, and to delete products and a service previously furnished by such agencies.

Comments Must Be Received on or Before: November 25, 2007.

ADDRESSES: Committee for Purchase From People Who Are Blind or Severely Disabled, Jefferson Plaza 2, Suite 10800, 1421 Jefferson Davis Highway, Arlington, Virginia 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to the Procurement List for production by the nonprofit agencies listed:

Products

Hat Liners, Hoods & Booties

NSN: 8415-LL-DM1-0027—Cotton Knit Winter Liner.

NSN: 8415-LL-DM1-0076—Cloth Hood.

NSN: 8415-LL-DM1-0077—Cotton Canvas Overshoes.

NPA: Community Workshops, Inc., Boston, MA.

Coverage: C-List for the requirements of the Portsmouth Naval Shipyard, Portsmouth, NH.

Contracting Activity: Department of the Navy, Fleet Industrial Supply Center (FISC) Norfolk, Portsmouth Naval Shipyard, Portsmouth, NH.

Maintenance Record Holder

NSN: 8105-00-190-9824—Maintenance Record Holder.

NPA: Raleigh Lions Clinic for the Blind, Inc., Raleigh, NC.

Coverage: B-List for the broad Government requirements as specified by the General Services Administration.

Contracting Activity: General Services Administration, Region 2, Office Supply & Paper Products Acquisition Ctr, New York, NY.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

Comments on this certification are invited. Commenters should identify the statement(s) underlying the certification on which they are providing additional information.

End of Certification

The following products and service are proposed for deletion from the Procurement List:

Products

Cup, Disposable

NSN: 7350-00-761-7467—Cup, Disposable, 6 oz.

NSN: 7350-00-914-5088—Cup, Disposable, 10 oz.

NSN: 7350-00-914-5089—Cup, Disposable, 8 oz.

Cup, Disposable (Foam Plastic)

NSN: 7350-00-082-5741—Cup, Disposable (Foam Plastic), 8 oz.

NSN: 7350-00-145-6126—Cup, Disposable (Foam Plastic), 16 oz.

NSN: 7350-00-721-9003—Cup, Disposable (Foam Plastic), 6 oz.

NSN: 7350-00-926-1661—Cup, Disposable (Foam Plastic), 10 oz.

Lid, Plastic (Foam Cup)

NSN: 7350-01-485-7092—Lid, Plastic (Foam Cup), 6 oz.

NSN: 7350-01-485-7093—Lid, Plastic (Foam Cup), 10 oz.

NSN: 7350-01-485-7094—Lid, Plastic (Foam Cup), 8 oz.

NSN: 7350-01-485-7889—Lid, Plastic (Foam Cup), 16 oz.

NPA: The Oklahoma League for the Blind, Oklahoma City, OK.

Contracting Activity: General Services Administration, Southwest Supply Center, Fort Worth, TX.

Cup, Drinking, Styrofoam

NSN: M.R. 537—Cup, Drinking, Styrofoam, 8 oz., 51 ct.

NSN: M.R. 539—Cup, Drinking, Styrofoam, 16 oz., 18 ct.

NPA: The Oklahoma League for the Blind, Oklahoma City, OK.

Contracting Activity: Defense Commissary Agency (DeCA), Fort Lee, VA.

Towel, Machinery Wiping

NSN: 7920-01-448-7003.

NPA: East Texas Lighthouse for the Blind, Tyler, TX.

Contracting Activity: General Services Administration, Southwest Supply Center, Fort Worth, TX.

Protector and Sleeve Transparencies

NSN: 7510-01-483-9754—Transparency Protector, Flip-Frame with Pre-View.

NSN: 7510-01-484-0016—Sleeve, Transparency.

NSN: 7510-01-484-0019—Transparency Protector, Flip-Frame.

Transparency, Ink Jet

NSN: 7530-01-484-1753.

NPA: Industries of the Blind, Inc., Greensboro, NC.

Contracting Activity: General Services Administration, Office Supplies & Paper Products Acquisition Ctr, New York, NY.

Service

Service Type/Location: Janitorial/Custodial, U.S. Department of Agriculture, Animal and Plant Health Inspection Service/PPQ, Asian Longhorn Beetle Project, 3920 N. Rockwell, Chicago, IL.

NPA: Habilitative Systems, Inc., Chicago, IL.

Contracting Activity: U.S. Department of Agriculture, Animal & Plant Health Inspection Service, Minneapolis, MN.

Kimberly M. Zeich,
Director, Program Operations.

[FR Doc. E7-21170 Filed 10-25-07; 8:45 am]

BILLING CODE 6353-01-P